DEPARTMENT OF HEALTH AND HUMAN SERVICES

Centers for Disease Control and Prevention

Guide to Community Preventive Services (GCPS) Task Force

In accordance with section 10(a)(2) of the Federal Advisory Committee Act (Pub. L. 92-463), the Centers for Disease Control and Prevention (CDC) announces the following meeting:

Name: Task Force on Community Preventive Services

Times and Dates:

8:30 a.m.-6:15 p.m., February 25, 2004

8 a.m.-1:45 p.m., February 26, 2004

Place: The Crowne Plaza Ravinia, 4355 Ashford Dunwoody Road, Atlanta, Georgia 30346-1521, telephone (770) 395-7700.

Status: Open to the public, limited only by the space available.

Purpose: The mission of the Task Force is to develop and publish a Guide to Community Preventive Services, which is based on the best available scientific evidence and current expertise regarding essential public health and what works in the delivery of those services.

Matters To Be Discussed: Agenda items include: briefings on administrative information, health care system interventions for obesity prevention, school based interventions for tobacco use prevention, environmental approaches to increasing physical activity, multi-component school nutrition programs for improving nutritional behavior and nutritional status of children and adolescents, group education approaches to promoting cancer screening, renewed progress on the Alcohol Chapter, folic acid reviews, implementing the vaccine coverage recommendations: Is the syringe half empty or half full? Violence Chapter.

Agenda items are subject to change as priorities dictate.

For Further Information Contact: Peter Briss, M.D.,Chief, Community Guide Branch, Division of Prevention Research and Analytic Methods, Epidemiology Program Office,CDC, 4770 Buford Highway, M/S K-73, Atlanta, Georgia, telephone (770) 488-8189.

Persons interested in reserving a space for this meeting should call (770) 488-8189 by close of business on February 23, 2004.

The Director, Management Analysis and Services office has been delegated the authority to sign Federal Register notices pertaining to announcements of meetings and other committee management activities, for both CDC and the Agency for Toxic Substances and Disease Registry.

Dated: January 30, 2004.
Alvin Hall,
Director, Management Analysis and Services Office, CDC.

[FR Doc. 04-2394 Filed 2-4-04; 8:45 am]

BILLING CODE 4163-18-P